EXPORT-IMPORT BANK OF THE U.S.

[Public Notice 2012-0086]

Agency Information Collection Activities: Final Collection; Comment Request

AGENCY: Export-Import Bank of the U.S.

ACTION: Submission for OMB Review and Comments Request.

Form Title: EIB 94-08 Notification and Assignment by Insured to Financial Institution of Medium Term Export Credit Insurance Policy.

SUMMARY: The Export-Import Bank of the United States (Ex-Im Bank), as a part of its continuing effort to reduce paperwork and respondent burden, invites the general public and other Federal Agencies to comment on the proposed information collection, as required by the Paperwork Reduction Act of 1995.

Ex-Im Bank is requesting an emergency approval of Ex-Im Bank form EIB 94-08, Notification and Assignment by Insured to Financial Institution of Medium Term Export Credit Insurance Policy. Ex-Im Bank's exporter policy holders, along with the financial institution providing it with financing, provide this form to Ex-Im Bank. The form transfers the duties and obligations of the insured exporter to the financial institution. It also provides certifications to the financial institution and Ex-Im Bank that the financed export transaction results in a valid, enforceable, and performing debt obligation. Exporter policy holders need this form to obtain financing for their medium term export sales. Ex-Im Bank believes that EIB 94-08 requires emergency approval in order to continue operation of its medium term program for U.S. exporters.

Lack of an emergency approval of this form would greatly restrict our ability to support many of the export sales made by U.S. businesses. Without this form, it would not be possible for financial institutions to obtain sufficient comfort to provide funding to our exporter policy holders. This would adversely impact Ex-Im Bank's ability to finance small business exporters and its overall mission to support U.S. exports and maintain U.S. jobs. Accordingly, Ex-Im Bank requests emergency approval of EIB 94-08 in order to continue operation of this important export program.

The form can be viewed at www.exim.gov/pub/pending/eib94-08.pdf.

DATES: Comments should be received on or before June 5, 2012 to be assured of consideration.

ADDRESSES: Comments maybe submitted electronically on www.regulations.gov or by mail to Arnold Chow, Export Import Bank of the United States, 811 Vermont Ave. NW., Washington, DC 20571.

SUPPLEMENTARY INFORMATION: Titles and Form Number: EIB 94-08 Notification and Assignment by Insured to Financial Institution of Medium Term Export Credit Insurance Policy.

OMB Number: 3048-xxx.

Type of Review: Regular.

Need and Use: The form transfers the duties and obligations of the insured exporter to the financial institution. It also provides certifications to the financial institution and Ex-Im Bank that the financed export transaction results in a valid, enforceable, and performing debt obligation. Exporter policy holders need this form to obtain financing for their medium term export sales.

Affected Public: This form affects entities involved in the export of U.S goods and services.

Annual Number of Respondents: 50.

Estimated Time per Respondent: 10 minutes.

Government Annual Burden Hours: 5 hours.

Frequency of Reporting or Use: As needed.

Sharon A. Whitt,
Agency Clearance Officer.

[FR Doc. 2012-8309 Filed 4-5-12; 8:45 am]

BILLING CODE 6690-01-P